SOCIAL SECURITY ADMINISTRATION

Senior Executive Service

AGENCY: Social Security Administration.

ACTION: Notice of Senior Executive Service Performance Review Board Membership.

Title 5, U.S. Code, Section 4314(c)(4) of the Civil Service Reform Act of 1978, Pub. L. 95-454, requires that the appointment of Performance Review Board members be published in the Federal Register.

The following persons will serve on the Performance Review Board which oversees the evaluation of performance appraisals of Senior Executive Service members of the Social Security Administration.

Nicholas M. Blatchford, Philip A. Gambino, Diane B. Garro, Terris A. King, Nancy A. McCullough, Carolyn L. Simmons, Felicita Sola-Carter, Frederick G. Streckewald, Paul N. Van de Water, Manuel Vaz, Alice H. Wade, John B. Watson, Charles M. Wood

Dated: November 12, 2003.
Reginald F. Wells,
Deputy Commissioner for Human Resources.

[FR Doc. 03-29687 Filed 11-26-03; 8:45 am]

BILLING CODE 4191-02-P